TENNESSEE VALLEY AUTHORITY

Meeting of the Regional Resource Stewardship Council

AGENCY: Tennessee Valley Authority.

ACTION: Notice of meeting.

SUMMARY: The TVA Regional Resource Stewardship Council (RRSC) will hold a meeting on Tuesday, November 14 and Wednesday, November 15, 2017, to consider various matters.

The RRSC was established to advise TVA on its natural resource stewardship activities. Notice of this meeting is given under the Federal Advisory Committee Act (FACA).

DATES: The public meeting will be held on Tuesday, November 14, 2017, from 8:30 a.m. to 11:45 a.m., CST, and Wednesday, November 15, 2017, from 8:30 a.m. to 12:00 p.m., CST.

ADDRESSES: The meeting will be held at 1155 Lodge Drive, Guntersville, Alabama 35976, and will be open to the public. Anyone needing special access or accommodations should let the contact below know at least a week in advance.

FOR FURTHER INFORMATION CONTACT: Barbie Perdue, 865-632-6113, baperdue@tva.gov.

SUPPLEMENTARY INFORMATION: The meeting agenda includes the following:

1. Introductions

2. Updates on Natural Resources and River Management Issues

3. Presentations regarding the TVA's Public Land Protection Program

4. Public Comments

5. Council Discussion and Advice

The RRSC will hear opinions and views of citizens by providing a public comment session starting at 9:30 a.m. CST, lasting up to one hour, on Wednesday, November 15, 2017, TVA will provide time limits for public comment once registered. Persons wishing to speak are requested to register at the door between 8:00 a.m. and 9:00 a.m., CST, on Wednesday, November 15, 2017, and will be called on during the public comment period. Handout materials should be limited to one printed page. Written comments are also invited and may be mailed to the Regional Resource Stewardship Council, Tennessee Valley Authority, 400 West Summit Hill Drive, WT-9 D, Knoxville, Tennessee 37902.

Dated: October 10, 2017.
Joseph J. Hoagland,
Vice President, Enterprise Relations and Innovation, Tennessee Valley Authority.

[FR Doc. 2017-22309 Filed 10-13-17; 8:45 am]

BILLING CODE 8120-08-P